DEPARTMENT OF COMMERCE

National Oceanic and Atmospheric Administration

[I.D. 111406A]

Fisheries of the Exclusive Economic Zone off Alaska; Application for an Exempted Fishing Permit

AGENCY: National Marine Fisheries Service (NMFS), National Oceanic and Atmospheric Administration (NOAA), Commerce.

ACTION: Notice of receipt of an application for an exempted fishing permit.

SUMMARY: This notice announces receipt of an application for an exempted fishing permit (EFP) from the Aleut Enterprise Corporation (AEC). If granted, this permit would be used to support a project to assess pollock abundance in a portion of the Aleutian Islands subarea and to test the feasibility of managing pollock harvest at a finer temporal and spatial scale using near real-time acoustic surveying. The project is intended to promote the objectives of the Fishery Management Plan (FMP) for Groundfish of the Bering Sea and Aleutian Islands Management Area (BSAI) by improving the use of pollock in the Aleutian Islands subarea.

ADDRESSES: Copies of the EFP application and the environmental assessment (EA) are available by writing to Sue Salveson, Assistant Regional Administrator for Sustainable Fisheries, Alaska Region, NMFS, P. O. Box 21668, Juneau, AK 99802, Attn: Ellen Walsh. The EA also is available from the Alaska Region, NMFS Web site at http://www.fakr.noaa.gov/index/analyses/analyses.asp.

FOR FURTHER INFORMATION CONTACT: Melanie Brown, 907-586-7228 or melanie.brown@noaa.gov.

SUPPLEMENTARY INFORMATION: NMFS manages the domestic groundfish fisheries in the BSAI under the FMP. The North Pacific Fishery Management Council (Council) prepared the FMP under the Magnuson-Stevens Fishery Conservation and Management Act. Regulations governing the groundfish fisheries of the BSAI appear at 50 CFR parts 600 and 679. The FMP and the implementing regulations at §§ 679.6 and 600.745(b) authorize issuance of EFPs to allow fishing that would otherwise be prohibited. Procedures for issuing EFPs are contained in the implementing regulations.

NMFS received an application for an EFP from the AEC. The purpose of the EFP is to support a project to assess pollock abundance in a portion of the Aleutian Islands subarea and to test the feasibility of managing pollock harvest at a finer temporal and spatial scale using near real-time acoustic surveying. The goal of the project is to improve the use of Aleutian Islands pollock. NMFS currently does not have the resources to conduct acoustic surveys of Aleutian Islands subarea pollock. This project has been developed in cooperation with stock assessment scientists at the NMFS Alaska Fisheries Science Center. The acoustic and biological information from the project would provide a baseline assessment of pollock biomass and distribution in the area that may be fished by small vessels from Adak, Alaska. This information also would be used to determine if the local aggregations of pollock are stable enough during the spawning season to allow for fine-scale spatial and temporal management. Additionally, genetic samples would be collected for stock structure analysis. Better information may lead to improved conservation and harvest management at finer spatial and temporal scales for the Aleutian Islands subarea pollock. Improved harvest management of the Aleutian Islands subarea pollock is needed based on the high uncertainty in the stock structure and the potential effects of the fishery on Steller sea lion populations.

The western distinct population segment (DPS) of Steller sea lions occurs in the Aleutian Islands subarea and is listed as endangered under the Endangered Species Act (ESA). Critical habitat has been designated for this DPS, including waters within 20 nautical miles (nm) of haulouts and rookeries (50 CFR 226.202) and in the Seguam Foraging Area. Pollock is a principal prey species of Steller sea lions.

The U.S. Congress, in Section 803 of the Consolidated Appropriations Act of 2004 (Public Law 108-199), required that the directed fishing allowance of pollock in the Aleutian Islands subarea be allocated to the Aleut Corporation. Only fishing vessels approved by the Aleut Corporation or its agents are allowed to harvest this allowance. To harvest the fish, the Aleut Corporation is allowed to contract only with vessels under 60 feet (18.3 m) length overall (LOA), or vessels listed under the American Fisheries Act. The allocation was made to the Aleut Corporation for the purpose of furthering the economic development of Adak, Alaska. Public Law 108-199 requires half of the Aleutian Islands pollock allocation to be harvested by small boats (less than 60 feet (18.3 m) LOA) in 2013 and beyond. For safety reasons, fishing in waters closer than 20 nm from shore is preferred by the small boat fleet.

Aleutian Islands subarea pollock had been harvested primarily in Steller sea lion critical habitat until 1999, when the Aleutian Islands subarea was closed to pollock fishing (64 FR 3437, January 22, 1999). In 2003, the Aleutian Islands subarea was opened to pollock fishing outside of critical habitat under regulations implementing the current Steller sea lion protection measures (68 FR 204, January 2, 2003). Since 2005, pollock is allocated to the Aleut Corporation for a directed pollock fishery in the Aleutian Islands subarea, but only outside of Steller sea lion critical habitat. In 2005 and 2006, the Aleut Corporation harvested only 1.2 percent and 16 percent, respectively of their initial annual total allowable catch (TAC) due, in part, to difficulty in finding pollock. Based on historical harvests, pollock aggregations necessary to support the proposed EFP likely occur inside Steller sea lion critical habitat.

Overall, up to four vessels would harvest no more than 3,000 metric tons (mt) of groundfish under the EFP. The EFP participants would retain all groundfish species to accurately document the catch amounts by species and compare this information to the acoustic survey data. The EFP would provide an exemption from maximum retainable amounts specified in Table 11 of 50 CFR part 679 so that the participants may retain and sell all groundfish harvested during compensation fishing.

The EFP would be necessary to allow the applicants to harvest groundfish in portions of Steller sea lion protection areas closed to pollock fishing to verify the acoustic survey data and to compensate the participants for the cost of carrying out the EFP. This EFP project would continue the 2006 EFP acoustic survey study near Atka Island and Kanaga Island. These islands are located within the proposed EFP study area. The acoustic survey must be conducted in an area that is likely to contain concentrations of pollock. The EFP would provide exemptions to some pollock fishing closures between 173° W and 179° W longitudes in Steller sea lion protection areas and in a portion of the Seguam Foraging Area. No more than 1000 mt of groundfish would be harvested from any one degree block in the survey area, and harvest would be limited to no more than one vessel over 60 feet (18.3 m) LOA in a one degree block. Fishing may occur within 0 nm to 3 nm of Steller sea lion haulouts in the study area only to verify acoustic survey data. No more than 10 mt of groundfish may be harvested in a survey verification tow. No compensation fishing would be allowed in waters 0 nm to 3 nm of haulouts and rookeries.

All groundfish harvested will be counted towards the TAC amounts specified for the BSAI in § 679.20 and in the 2007 harvest specifications (71 FR 10894, March 3, 2006), which are scheduled for revision by the end of February 2007. Nearly all groundfish harvested under the EFP would be pollock with minor amounts of Pacific ocean perch. Directed fishing under the EFP would be included in any groundfish fishing closures in the Aleutian Islands subarea due to overfishing concerns.

Fishing under the EFP would occur February 15, 2007, through April 30, 2007, for approximately three weeks. The EFP may be modified to extend the effective date for an additional 12 months. Additional pollock abundance and distribution data would be needed to support the stock assessment and the development of potential finer-scale pollock harvest management.

Significant impacts on the marine environment are not expected because the harvest under the EFP would be limited to four vessels for approximately three weeks in a discrete area with a 3,000 mt limit. Because the study would be in Steller sea lion critical habitat and would include the harvest of a principal prey species for Steller sea lions, a Section 7 consultation under the ESA has been initiated for this action and must be completed before the issuance of the EFP.

In accordance with § 679.6, NMFS has determined that this proposal warrants further consideration and has initiated consultation with the Council by forwarding the application to the Council. The Council will consider the EFP application during its December 4-12, 2006 meeting. The applicant has been invited to appear in support of the application. Interested persons may comment on the application at the Council meeting during public testimony. Information regarding the December 2006 Council meeting is available at the Council's Web site at http://www.fakr.noaa.gov/npfmc/default.htm.

Copies of the application and EA are available for review from NMFS (see ADDRESSES).

Authority: 16 U.S.C. 1801 et seq.

Dated: November 14, 2006.
James P. Burgess,
Acting Director, Office of Sustainable Fisheries, National Marine Fisheries Service.

[FR Doc. E6-19427 Filed 11-16-06; 8:45 am]

BILLING CODE 3510-22-S